DEPARTMENT OF ENERGY

Federal Energy Regulatory Commission

[Docket No. AD22-14-000]

Commission Information Collection Activities (Proposed FERC-1001 and FERC-1002); Comment Request

AGENCY: Federal Energy Regulatory Commission.

ACTION: Notice of proposed information collections and request for comments.

SUMMARY: In compliance with the requirements of the Paperwork Reduction Act of 1995, the Federal Energy Regulatory Commission (Commission or FERC) staff is soliciting public comment on the proposed surveys FERC-1001 (Hotline and Helpline Survey) and FERC-1002 (Customer Engagement Management Survey).

DATES: Comments on the proposed collections of information are due November 7, 2022.

ADDRESSES: You may submit comments (identified by Docket No. AD22-14-000) by the following methods. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service only, addressed to: Federal Energy Regulatory Commission, Secretary of the Commission, 888 First Street NE, Washington, DC 20426.

○ Hand (including courier) delivery to: Federal Energy Regulatory Commission, 12225 Wilkins Avenue, Rockville, MD 20852.

Please identify whether your comments relate to proposed collection FERC-1001 (Hotline and Helpline Survey) and/or FERC-1002 (Customer Engagement Management Survey).

Instructions: All submissions must be formatted and filed in accordance with submission guidelines at: Guides | Federal Energy Regulatory Commission (ferc.gov) (https://www.ferc.gov/guides). For user assistance, contact FERC Online Support by email at ferconlinesupport@ferc.gov, or by phone at (866) 208-3676 (toll-free).

Docket: Users interested in receiving automatic notification of activity in this docket may subscribe to the docket using eSubscription, FERC Online—Log In (https://ferconline.ferc.gov/LogIn.aspx). Users interested in viewing or downloading comments and issuances in this docket may do so using eLibrary, eLibrary | General search (ferc.gov) (https://elibrary.ferc.gov/eLibrary/search).

FOR FURTHER INFORMATION CONTACT: Melissa Lozano may be reached at Melissa.Lozano@FERC.gov by email or telephone at (202) 502-6267.

SUPPLEMENTARY INFORMATION:

Titles: Proposed FERC-1001 (Hotline and Helpline Survey) and FERC-1002 (Customer Engagement Management Survey).¹

¹ The proposed surveys will not be published in the Federal Register but will be available as part of this notice in the Commission's eLibrary system.

OMB Control Nos: 1902-TBD.²

² We anticipate having one OMB Control No. that would include both proposed FERC-1001 and proposed FERC-1002.

Type of Request: Request for proposed new information collections.

Abstract:

Proposed FERC-1001

This proposed survey covers the Office of Public Participation (OPP) helpline, Customer Engagement helpline, Landowner helpline, Alternative Dispute Resolution helpline, Electric Quarterly Report (EQR) helpline, and the Enforcement hotline.³ The contact information voluntarily provided and collected is listed in Attachment A to this notice. FERC collects contact information voluntarily provided by members of the public who contact FERC to obtain assistance with navigating FERC matters. Members of the public typically contact FERC helplines and its Enforcement hotline seeking assistance with understanding specific issues that impact their property and communities, businesses, or marketplace. Other times, members of the public contact FERC seeking to understand how to express their opinions, views, and concerns regarding energy policy developments, energy infrastructure projects, or a specific case pending before FERC.

³ Proposed FERC—1001 covers five helplines and one hotline: OPP Helpline: 202-502-6595; OPP@ferc.gov; Customer Engagement Helpline: 202-502-8004; 1-866-208-3372; customer@ferc.gov; Landowner Helpline: 1-877-337-2237; fax 202-219-2730; landownerHelp@ferc.gov; Alternative Dispute Resolution (ADR) Helpline: 1-844-238-1560; fax 202-219-2730; ferc.adr@ferc.gov; Electric Quarterly Report (EQR) Helpline: 202-502-8076; eqr@ferc.gov. Enforcement Hotline: 202-502-8390; 1-888-889-8030; fax 202-208-0057; https://www.ferc.gov/enforcement-legal/enforcement-hotline/contract-hotline-staff-anonymously.hotline@ferc.gov; https://www.ferc.gov/enforcement-legal/enforcement/enforcement-hotline/contact-hotline-staff-anonymously.

Members of the public, including company representatives, contact FERC to indicate their interest in obtaining information to facilitate fulfilling their compliance obligations under the Commission's Electric Quarterly Reports regulations or to seek support or guidance with filing their Electric Quarterly Reports. Further, FERC invites market participants and the general public to contact FERC to report market activities or transactions that may be market manipulation, fraud, an abuse of an affiliate relationship, a tariff violation, a violation of a Commission order, or other possible violation. FERC receives the contact information or specified data to provide customer service. Data is used to respond to the customer's question. Data is also used in an aggregated manner to identify areas that require additional explanations from FERC. Staff may use data from its helplines and its hotline to develop Frequently Asked Questions or other educational materials for posting on the FERC website.

Contact information is collected at several intake points including via email, telephone, fax, and/or webform. The FERC website provides a number of web-based forms for the public to request assistance related to specific subjects like landowner and energy company disputes, reporting possible violations of the Commission's regulations, energy infrastructure compliance concerns, general participation in Commission proceeding inquiries, matters that may benefit from alternative dispute resolution, press and media issues, and Electric Quarterly Reports.

Proposed FERC-1002

This survey covers outreach under Office of Public Participation, Office of External Affairs and Electric Quarterly Report administrators.⁴ FERC proposes to voluntarily collect information on individual or stakeholder interests to engage with them by providing to the extent possible targeted information consistent with their expressed interest. The list of proposed questions is included in Attachment B of this notice. FERC proposes to voluntarily collect contact information and information about a participant's subject matter areas of interest, and to keep email distributions to be used to inform interested individuals of technical conferences, workshops, user group meetings, certain proceedings or of press releases or newsletters.

⁴ Proposed FERC-1002 covers 3 areas of outreach for customer engagement (a) from the Office of Public Participation: Subscribe for Updates From the Office of Public Participation | Federal Energy Regulatory Commission (ferc.gov): FERC Insight Newsletter | Federal Energy Regulatory Commission (https://www.ferc.gov/office-of-public-participation-subscribe) and (b) for the Electric Quarterly Report users: Join Our EQR Contact List | Federal Energy Regulatory Commission (ferc.gov) (https://www.ferc.gov/join-our-eqr-contact-list).

This information collection is needed to conduct customer engagement activities. Customer engagement is needed to further the Commission's goal of facilitating the public's understanding of FERC's work and encouraging their participation in FERC matters. This data will allow FERC to understand which areas of its work are of greater interest to the public and where additional public outreach and educational materials or other resources are needed the most.

Estimate of Annual Burden ⁵

⁵ Burden is defined as the total time, effort, or financial resources expended by persons to generate, maintain, retain, or disclose or provide information to or for a Federal agency. For further explanation of what is included in the information collection burden, see 5 CFR 1320.3.

The following tables set forth the estimated annual burden and cost ⁶ for the information collections:

⁶ Commission staff believes the FERC average wages plus benefits are a reasonable approximation of the cost for industry and public respondents. Therefore we are using the 2022 FERC average cost for wages plus benefits ($91.00 (rounded) per hour or $188,922 (rounded) per year).

Estimated Annual Averages for Proposed FERC-1001 and FERC-1002
Estimated Annual Burden Hours for FERC-1001
Line | Number of respondents | Number of responses per respondent | Total number of responses | Average burden hours per response | Total annual burden hours
| (1) | (2) | (1) × (2) = (3) | (4) | (3) × (4) = (5)
Landowner Helpline | 350 | 1 | 350 | 0.17 | 59.5
Enforcement Hotline | 175 | 1 | 175 | 0.25 | 43.75
ADR Helpline | 75 | 1 | 75 | 0.5 | 37.5
OPP Helpline | 400 | 1.5 | 600 | 0.35 | 210
Customer Engagement Helpline | 7,300 | 1 | 7,300 | 0.17 | 1,241
EQR Helpline | 380 | 2.5 | 950 | 0.75 | 712.5
Totals (Rounded) |  |  | 9,450 |  | 2304

Estimated Annual Cost for FERC-1001
Line | Total number of responses | Average burden hours per response | Loaded cost per hour | Average cost per response | Total annual cost
| (3) | (4) | (6) | (4) × (6) = (7) | (3) × (7) = (8)
Landowner Helpline | 350 | 0.17 | $91 | $15.47 | $5,414.50
Enforcement Hotline | 175 | 0.25 | 91 | 22.75 | 3,981.25
ADR Helpline | 75 | 0.5 | 91 | 45.50 | 3,412.50
OPP Helpline | 600 | 0.35 | 91 | 31.85 | 19,110.00
Customer Engagement Helpline | 7,300 | 0.17 | 91 | 15.47 | 112,931.00
EQR Helpline | 950 | 0.75 | 91 | 68.25 | 64,837.50
Totals (Rounded) | 9,450 |  |  |  | 209,687

Estimated Annual Burden Hours for FERC-1002
Subscriber type | Number of respondents | Number of responses per respondent | Total number of responses | Average burden hours per response | Total annual burden hours
| (1) | (2) | (1) × (2) = (3) | (4) | (3) × (4) = (5)
Customer Engagement | 2,000 | 1 | 2,000 | 0.3 | 600
OPP | 100 | 1 | 100 | 0.17 | 17
EQR | 140 | 1 | 140 | 0.17 | 23.8
Totals (Rounded) |  |  | 2,240 |  | 641

Estimated Annual Cost for FERC-1002
Subscriber type | Total number of responses | Average burden hours per response | Loaded cost per hour | Average cost per response | Total annual cost
| (3) | (4) | (6) | (4) × (6) = (7) | (3) × (7) = (8)
Customer Engagement | 2000 | 0.3 | $91 | $27.30 | $54,600.00
OPP | 100 | 0.17 | 91 | 15.47 | 1,547.00
EQR | 140 | 0.17 | 91 | 15.47 | 2,165.80
Totals (Rounded) | 2,240 |  |  |  | 58,313

Combined Total for Proposed FERC-1001 and FERC-1002
| Estimated hour burden | Estimated cost burden
Estimated Annual Combined Total for Proposed FERC-1001 and FERC-1002 | 2,945 | $268,000

Comments: Comments are invited on: (1) whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

Dated: September 1, 2022.
Kimberly D. Bose,
Secretary.

[FR Doc. 2022-19406 Filed 9-7-22; 8:45 am]

BILLING CODE 6717-01-P